DEPARTMENT OF ENERGY

Federal Energy Regulatory Commission

Notice of Application for Amendment of Shoreline Management Plan and Soliciting Comments, Motions To Intervene and Protests

March 22, 2007.

a. Type of Application: Application to amend the shoreline management plan to change land classifications.

b. Project Number: P-1417-198.

c. Date Filed: February 12, 2007.

d. Applicant: Central Nebraska Public Power and Irrigation District.

e. Name of Project: Kingsley Dam Hydroelectric Project No. 1417.

f. Location: The project is located on the Platte and North Platte Rivers in Keith, Adams, Gosper, Phelps, Lincoln, Dawson, and Kearney Counties, Nebraska.

g. Filed Pursuant to: Federal Power Act, 16 U.S.C. 791(a)-825(r) and §§ 799 and 801.

h. Applicant Contact: Mr. Michael Drain, Natural Resources Manager, Central Nebraska Public Power and Irrigation District, 415 Lincoln S., P.O. Box 740, Hodrege, NE 68949, telephone (308) 995-8601.

i. FERC Contact: Any questions on this notice should be addressed to Chris Yeakel at (202) 502-8132, or e-mail address: christopher.yeakel@ferc.gov.

j. Deadline for filing comments and or motions: April 23, 2007.

k. Description of Request: Central Nebraska Public Power and Irrigation District proposes to change the classification of shoreline lands along Plum Creek Canyon Reservoir from open-space/pasture to residential. The proposed change will correct errors in the initial land classification, and accommodate ongoing development of a pre-existing subdivision and new subdivision outside of the project boundary. The areas proposed for reclassification are located along the east and southeast shoreline. The amendment proposal was developed after consultation with the U.S. Fish and Wildlife Service, Nebraska Game and Parks Commission, and Dawson and Gosper Counties.

l. Locations of the Application: A copy of the application is available for inspection and reproduction at the Commission's Public Reference Room, located at 888 First Street, NE, Room 2A, Washington, DC 20426, or by calling (202) 502-8371. This filing may also be viewed on the Commission's Web site at http://www.ferc.gov using the “eLibrary” link. Enter the docket number excluding the last three digits in the docket number field (p-1417) to access the document. You may also register online at http://www.ferc.gov/docs-filing/esubscription.asp to be notified via e-mail of new filings and issuances related to this or other pending projects. For assistance, call 1-866-208-3676 or e-mail FERCOnlineSupport@ferc.gov, for TTY, call (202) 502-8659. A copy is also available for inspection and reproduction at the address in item (h) above.

m. Individuals desiring to be included on the Commission's mailing list should so indicate by writing to the Secretary of the Commission.

n. Comments, Protests, or Motions to Intervene—Anyone may submit comments, a protest, or a motion to intervene in accordance with the requirements of Rules of Practice and Procedure, 18 CFR 385.210, 385.211, 385.214. In determining the appropriate action to take, the Commission will consider all protests or other comments filed, but only those who file a motion to intervene in accordance with the Commission's Rules may become a party to the proceeding. Any comments, protests, or motions to intervene must be received on or before the specified comment date for the particular application.

o. Filing and Service of Responsive Documents—Any filings must bear in all capital letters the title “COMMENTS”, “RECOMMENDATIONS FOR TERMS AND CONDITIONS”, “PROTEST”, OR “MOTION TO INTERVENE”, as applicable, and the Project Number of the particular application to which the filing refers (p-1417-198). All documents (original and eight copies) should be filed with: Philis J. Posey, Acting Secretary, Federal Energy Regulatory Commission, 888 First Street, NE., Washington, DC 20426. A copy of any motion to intervene must also be served upon each representative of the Applicant specified in the particular application.

p. Agency Comments—Federal, state, and local agencies are invited to file comments on the described application. A copy of the application may be obtained by agencies directly from the Applicant. If an agency does not file comments within the time specified for filing comments, it will be presumed to have no comments. One copy of an agency's comments must also be sent to the Applicant's representatives.

q. Comments, protests and interventions may be filed electronically via the Internet in lieu of paper. See, 18 CFR 385.2001(a)(1)(iii) and the instructions on the Commission's Web site at http://www.ferc.gov under the “e-Filing” link.

Philis J. Posey,
Acting Secretary.

[FR Doc. E7-5696 Filed 3-28-07; 8:45 am]

BILLING CODE 6717-01-P